DEPARTMENT OF JUSTICE

Notice of Lodging of Proposed Consent Decree Under the Comprehensive Environmental Response, Compensation, and Liability Act

On May 21, 2015, the Department of Justice lodged a proposed Consent Decree with the United States District Court for the Southern District of Illinois in the lawsuit entitled United States of America v. Illinois Tool Works Inc. 12-cv-1233-NJR-SCW.

The proposed Consent Decree would resolve Comprehensive Environmental Response, Compensation, and Liability Act (“CERCLA”) claims and certain other related claims concerning Site 14 (“Site 14” or “the Site”) of the Miscellaneous Areas Operable Unit at the Crab Orchard National Wildlife Refuge Superfund Site near Marion, Illinois. The total response costs for Site 14 are roughly $5.8 million, including about $3.66 million spent by Illinois Tool Works (“ITW”) and about $2.15 million spent by the U.S. Department of the Interior (“DOI”) and the U.S. Environmental Protection Agency (“EPA”). The proposed settlement would require ITW to pay an additional $78,617, including $62,739 being paid into the DOI Central Hazardous Materials Fund and $15,878 being paid into the EPA Superfund. No prior payments have been made on account of the alleged CERCLA liability of the Department of the Army (“Army”) and DOI (the “Settling Federal Agencies”). Under this settlement, the United States would pay $1,677,549 on behalf of the Settling Federal Agencies, including $1,338,745 being paid into the DOI Central Hazardous Materials Fund and $338,804 being paid into the EPA Superfund.

The publication of this notice opens a period for public comment on the Consent Decree. Comments should be addressed to the Assistant Attorney General, Environment and Natural Resources Division, and should refer to United States of America v. Illinois Tool Works Inc., D.J. Ref. No. 90-11-3-643/1.

All comments must be submitted no later than thirty (30) days after the publication date of this notice. Comments may be submitted either by email or by mail:

To submit comments: | Send them to:
By email | pubcomment-ees.enrd@usdoj.gov.
By mail | Acting Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $8.75 (25 cents per page reproduction cost) payable to the United States Treasury.

Randall M. Stone,
Acting Assistant Section Chief, Environmental Enforcement Section, Environment and Natural Resources Division.

[FR Doc. 2015-12826 Filed 5-27-15; 8:45 am]

BILLING CODE 4410-15-P